DEPARTMENT OF TRANSPORTATION

Federal Highway Administration

Environmental Impact Statement: Interstate 66 Corridor, Virginia

AGENCY: Federal Highway Administration (FHWA), DOT.

ACTION: Notice of Intent.

SUMMARY: The Federal Highway Administration is issuing this notice to advise the public of its intent to prepare a Tier 1 Environmental Impact Statement, in cooperation with the Virginia Department of Transportation and Virginia Department of Rail and Public Transportation, for potential transportation improvements in the Interstate 66 corridor in Virginia.

FOR FURTHER INFORMATION CONTACT: John Simkins, Planning and Environmental Team Leader, Federal Highway Administration, Post Office Box 10249, Richmond, Virginia 23240-0249; e-mail: John.Simkins@dot.gov; telephone: (804) 775-3347.

SUPPLEMENTARY INFORMATION: The Federal Highway Administration (FHWA), in cooperation with the Virginia Department of Transportation (VDOT) and Virginia Department of Rail and Public Transportation (VDRPT), will prepare a Tier 1 Environmental Impact Statement for potential transportation improvements in the Interstate 66 corridor in Virginia. The approximate limits of the study are Interstate 495 to the east and U.S. Route 15 to the west. The Tier 1 Environmental Impact Statement will evaluate a range of concepts to meet the purpose and need.

The FHWA, VDOT, and VDRPT are seeking input as part of the scoping process to assist in determining and clarifying issues relative to the study. Letters describing the study and soliciting input will be sent to the appropriate Federal, State, and local agencies, and other interested parties as part of the scoping process. An agency scoping meeting as well as a public scoping meeting are planned and will be announced when the dates have been finalized. Notices of public meetings and public hearings will be given through various forums providing the time and place of the meeting along with other relevant information. The Tier 1 Draft Environmental Impact Statement will be available for public and agency review and comment prior to the public hearings.

To ensure that the full range of issues related to this study is identified and taken into account, comments and suggestions are invited from all interested parties. Comments and questions concerning this study should be directed to FHWA at the address provided above.

(Catalog of Federal Domestic Assistance Program Number 20.205, Highway Planning and Construction. The regulations implementing Executive Order 12372 regarding intergovernmental consultation on Federal programs and activities apply to this proposed action.)

Authority: 23 U.S.C. 315; 49 CFR 1.48.

Issued on: April 11, 2011.
John Simkins,
Planning and Environmental Team Leader.

[FR Doc. 2011-9235 Filed 4-15-11; 8:45 am]

BILLING CODE 4910-22-P